DEPARTMENT OF ENERGY

Federal Energy Regulatory Commission

[Docket No. RP0-461-004]

Western Gas Interstate Company; Notice of Compliance Filing

November 20, 2003.

Take notice that on November 17, 2003, Western Gas Interstate Company (WGI), tendered for filing as part of its FERC Gas Tariff, Fourth Revised Volume No. 1, Substitute First Revised Sheet No. 224, to be effective November 1, 2003.

WGI states that the filing is being made in compliance with the Commission(s September 17, 2003 order in this proceeding.

WGI states that the purpose of the filing is to change the time by which WGI must act on certain discount requests from 3 p.m. to 4 p.m., and to provide that requests received after 4 p.m. will be acted on by 8:30 am on the next business day. WGI states that it inadvertently failed to include this tariff change in its October 7, 2003 compliance filing in Docket No. RP00-461-003.

WGI states that copies of this filing were served on its customers and interested state commissions.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E3-00402 Filed 11-28-03; 8:45 am]

BILLING CODE 6717-01-P